DEPARTMENT OF ENERGY

Federal Energy Regulatory Commission

[Docket No. RP02-252-001]

Columbia Gulf Transmission Company; Notice of Compliance Filing

July 17, 2002.

Take notice that on July 11, 2002, Columbia Gulf Transmission Company (Columbia Gulf) tendered for filing as part of its FERC Gas Tariff, Second Revised Volume No. 1, the following revised tariff sheets to become effective July 1, 2002:

Substitute Third Revised Sheet No. 389

Substitute Fourth Revised Sheet No. 393

Substitute First Revised Sheet No. 395A

Columbia Gulf states that on May 1, 2002, it made a filing with the Commission to comply with Order No. 587-N (98 FERC 61,257 (2002)). The order amended the Commission's regulations to require pipelines to permit releasing shippers to recall released capacity and renominate such recalled capacity at each nomination opportunity. On June 26, 2002, the Commission approved the tariff sheets filed on May 1, 2002, but directed Columbia Gulf to make minor modifications. The tariff sheets in the instant filing reflect the changes mandated by the Commission.

Columbia Gulf states that copies of its filing have been served to Colombia Gulf's firm customers and affected state commissions.

Any person desiring to protest said filing should file a protest with the Federal Energy Regulatory Commission, 888 First Street, NE, Washington, DC 20426, in accordance with Section 385.211 of the Commission's Rules and Regulations. All such protests must be filed on or before July 24, 2002. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Deputy Secretary.

[FR Doc. 02-18543 Filed 7-22-02; 8:45 am]

BILLING CODE 6717-01-P